DEPARTMENT OF COMMERCE

International Trade Administration

[A-201-805]

Certain Circular Welded Non-Alloy Steel Pipe From Mexico: Rescission of Antidumping Duty Administrative Review; 2018-2019

AGENCY: Enforcement and Compliance, International Trade Administration, Department of Commerce.

SUMMARY: The Department of Commerce (Commerce) is rescinding its administrative review of the antidumping duty order on certain circular welded non-alloy steel pipe from Mexico for the period of review (POR) November 1, 2018, through October 31, 2019.

DATES: Applicable May 14, 2020.

FOR FURTHER INFORMATION CONTACT: Mark Flessner, AD/CVD Operations, Office VI, Enforcement and Compliance, International Trade Administration, U.S. Department of Commerce, 1401 Constitution Avenue NW, Washington, DC 20230; telephone: (202) 482-6312.

SUPPLEMENTARY INFORMATION:

Background

On November 1, 2019, Commerce published in the Federal Register a notice of opportunity to request an administrative review of the antidumping duty order ¹ on certain circular welded non-alloy steel pipe from Mexico for the POR.² On November 26, 2019, Commerce received a timely request from domestic interested parties Independence Tube Corporation, and Southland Tube, Incorporated (collectively, Nucor Tubular ³), in accordance with section 751(a) of the Tariff Act of 1930, as amended (the Act), and 19 CFR 351.213(b), to conduct an administrative review of the Order for 36 companies.⁴ On November 27, 2019, Commerce received a timely request from petitioner Wheatland Tube (Wheatland), in accordance with section 751(a) of the Act and 19 CFR 351.213(b), to conduct an administrative review of the Order for 24 companies.⁵ No other party requested an administrative review.

¹ See Notice of Antidumping Duty Orders: Certain Circular Welded Non-Alloy Steel Pipe from Brazil, the Republic of Korea (Korea), Mexico, and Venezuela and Amendment to Final Determination of Sales at Less Than Fair Value: Certain Welded Non-Alloy Steel Pipe from Korea, 57 FR 49453 (November 2, 1992) (the Order).

² See Antidumping or Countervailing Duty Order, Finding, or Suspended Investigation; Opportunity to Request Administrative Review, 84 FR 58690 (November 1, 2019).

³ Subsequent to their joint filing of this request for review, these companies merged and are now known as Nucor Tubular Products Inc.

⁴ See Nucor Tubular's Letter, “Certain Circular Welded Non-Alloy Steel Pipe from Mexico: Request for Administrative Review,” dated November 26, 2019.

⁵ See Wheatland's Letter, “Certain Circular Welded Non-Alloy Steel Pipes and Tubes from Mexico: Request for Administrative Review,” dated November 27, 2019. Each of these 24 companies had already been requested by Nucor Tubular.

On January 17, 2020, Commerce published in the Federal Register a notice of initiation with respect to 36 companies.⁶ On March 5, 2020, Wheatland timely withdrew its request for an administrative review for all 24 companies it had requested.⁷ On March 10, 2020, Nucor Tubulars timely withdrew its request for an administrative review for all 36 companies it had requested.⁸ These withdrawals covered all 36 companies listed in the Initiation Notice.⁹

⁶ See Initiation of Antidumping and Countervailing Duty Administrative Reviews, 85 FR 3014 (January 17, 2020) (Initiation Notice) for a list of the 36 companies.

⁷ See Wheatland's Letter, “Certain Circular Welded Non-Alloy Steel Pipes and Tubes from Mexico: Withdrawal of Request for Administrative Review,” dated March 5, 2020.

⁸ See Nucor Tubular's Letter, “Certain Circular Welded Non-Alloy Steel Pipes and Tubes from Mexico: Withdrawal of Request for Administrative Review,” dated March 10, 2020.

⁹ See Initiation Notice, 85 FR 3015-3016.

On April 24, 2020, Commerce tolled all deadlines in administrative reviews by 50 days, thereby extending the deadline for these results until September 21, 2020.¹⁰

¹⁰ See Memorandum, “Tolling of Deadlines for Antidumping and Countervailing Duty Administrative Reviews in Response to Operational Adjustments Due to COVID-19,” dated April 24, 2020.

Rescission of Administrative Review

Pursuant to 19 CFR 351.213(d)(1), Commerce will rescind an administrative review, in whole or in part, if the parties that requested a review withdraw the request within 90 days of the date of publication of the notice of initiation of the requested review. All parties which requested an administrative review withdrew their requests for review for all companies by the 90-day deadline, and no other party requested an administrative review of this order. Therefore, we are rescinding the administrative review of the antidumping duty order on certain circular welded non-alloy steel pipe from Mexico covering the period November 1, 2018, through October 31, 2019, in its entirety.

Assessment

Commerce will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). Commerce intends to issue appropriate assessment instructions to CBP 41 days after publication of this notice in the Federal Register.

Notification to Importers

This notice serves as the only reminder to importers of their responsibility, under 19 CFR 351.402(f)(2), to file a certificate regarding the reimbursement of antidumping duties prior to liquidation of the relevant entries during this review period. Failure to comply with this requirement may result in the presumption that reimbursement of antidumping duties occurred and the subsequent assessment of double antidumping duties.

Notification Regarding Administrative Protective Orders

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation. Note that Commerce has temporarily modified certain of its requirements for serving documents containing business proprietary information, until May 19, 2020, unless extended.¹¹

¹¹ See Temporary Rule Modifying AD/CVD Service Requirements Due to COVID-19, 85 FR 17006 (March 26, 2020).

This notice is published in accordance with sections 751(a)(1) and 777(i)(1) of the Act, and 19 CFR 351.213(d)(4).

Dated: May 8, 2020.
James Maeder,
Deputy Assistant Secretary for Antidumping and Countervailing Duty Operations.

[FR Doc. 2020-10350 Filed 5-13-20; 8:45 am]

BILLING CODE 3510-DS-P